DEPARTMENT OF DEFENSE

Department of the Air Force

[Docket ID USAF-2008-0060]

Privacy Act of 1974; System of Records

AGENCY: Department of the Air Force, DoD.

ACTION: Notice to Add a System of Records Notice.

SUMMARY: The Department of the Air Force proposes to add a system of records notice to its inventory of records systems subject to the Privacy Act of 1974 (5 U.S.C. 552a), as amended.

DATES: The actions will be effective on December 30, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on December 19, 2008, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 22, 2008.
Morgan E. Frazier,
Alternate Federal Register Liaison Officer, Department of Defense.

F065 AETC A

SYSTEM NAME:

Air Education Training Command Financial Management Records

SYSTEM LOCATION:

Headquarters, Air Education and Training Command, Financial Management (FM) Directorate, Financial Systems Branch, 1851 First St., E, Suite 1, Randolph AFB, TX 78150-4315.

CATEGORIES OF INDIVIDUALS COVERED BY THE SYSTEM:

Students attending classes paid for by the Air Education Training Command via Temporary Duty (TDY) to School Management Information System funding and travelers with open TDY orders in the accounting system.

CATEGORIES OF RECORDS IN THE SYSTEM:

Name, Social Security Number (SSN), duty location, organization of assignment, grade, duty phone number, e-mail address, training location, course type, training quota, days of travel and other personal data relevant to the TDY order and training scheduling process.

AUTHORITY FOR MAINTENANCE OF THE SYSTEM:

10 U.S.C. 8013, Secretary of the Air Force; AFI 65-103, Temporary Duty Orders; AFI 33-328, Administrative Order; AFI 36-2110, Chapter 4, Temporary Duty Assignments; The Joint Federal Travel Regulations Volume 1; Joint Federal Travel Regulation Military; Joint Travel Regulation Civilian Volume 2; DoD Regulation 7010.3-R, Procedures for Travel Accounting and E.O. 9397 (SSN).

PURPOSE(S):

To support the Air Education and Training Command's Temporary Duty-To-School Management Information System and the Budget Analysis Tools System. Temporary Duty-To-School was developed to provide automated quota control, management and travel cost estimates for improved financial management of Air Education and Training Command sponsored formal training allotments. The Air Education and Training Command currently manages quotas and associated temporary duty cost estimates for various funded travel and transportation requirements with subsequent travel authorization obligation. The Budget Analysis Tools System also allows technicians and resource advisors to follow-up on all outstanding temporary duty orders in the accounting system that have not been filed by travelers.

ROUTINE USES OF RECORDS MAINTAINED IN THE SYSTEM INCLUDING CATEGORIES OF USERS AND THE PURPOSES OF SUCH USE:

In addition to those disclosures generally permitted under 5 U.S.C. 552a(b) of the Privacy Act, these records or information contained therein may specifically be disclosed outside the DoD as a routine use pursuant to 5 U.S.C. 552a(b)(3). The DoD ‘Blanket Routine Uses’ published at the beginning of the Air Force's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Name or Social Security Number (SSN).

SAFEGUARDS:

Records are maintained in a controlled facility. Physical entry is restricted by the use of cipher locks, and is only accessible to authorized personnel. Records are accessed only by person(s) responsible with a need to know for servicing the system of record in performance of their official duties and those authorized personnel who are properly screened and cleared. Access to the system utilizes encryption software. Records in computer storage devices are protected by computer system software. Access to the web site requires a Common Access Card for authentication purposes.

RETENTION AND DISPOSAL:

Travel related documentation is archived and later destroyed after no longer needed by deleting information from the server and shredding paper copies. Backup and archival copies of the database are encrypted. Data related to financial analysis and reporting will be retained IAW Table 65-01, R-01. Data related to travel orders will be retained IAW Table 65-21, R-03.

SYSTEM MANAGER(S) AND ADDRESS:

Department of the Air Force, Chief, Financial Systems Branch, 1851 First St., E, Suite 1, Randolph AFB, TX 78150-4315.

NOTIFICATION PROCEDURES:

Individuals seeking to determine whether information about themselves is contained in this system of records should address written inquiries to the Headquarters, Air Education and Training Command, Financial Management Directorate, Financial Systems Branch, 1851 First St., E, Suite 1, Randolph AFB, TX 78150-4315.

Requests should include full name, Social Security Number (SSN), address, day time telephone number and certified signature.

RECORD ACCESS PROCEDURES:

Individuals seeking access to information about themselves contained in this system of records should address written to Headquarters, Air Education and Training Command, Financial Management Directorate, Financial Systems Branch, 1851 First St., E, Suite 1, Randolph AFB, TX 78150-4315.

Requests should include full name, Social Security Number (SSN), address, day time telephone number and certified signature.

CONTESTING RECORD PROCEDURES:

The Air Force rules for access to records, and for contesting and appealing initial agency determinations by the individual concerned are published in Air Force Instruction 33-332, Privacy Act Program, 32 CFR Part 806b, or may be obtained from the system manager.

RECORD SOURCE CATEGORIES:

The source of all records collected is from individuals as well as from other automated system interfaces required to create the TDY order.

EXEMPTIONS CLAIMED FOR THE SYSTEM:

None.

[FR Doc. E8-30871 Filed 12-29-08; 8:45 am]

BILLING CODE 5001-06-P